ENVIRONMENTAL PROTECTION AGENCY

[FRL-9483-3]

Clean Air Act Operating Permit Program; Petition for Objection to State Operating Permit for Public Service Company of Colorado dba Xcel Energy—Valmont Power Station

AGENCY: Environmental Protection Agency (EPA).

ACTION: Notice of final action.

SUMMARY: This document announces that the EPA Administrator has responded to a citizen petition asking EPA to object to an operating permit issued by the Colorado Department of Public Health and Environment (CDPHE). Specifically, the Administrator has denied the March, 2010, Petition, submitted by WildEarth Guardians (Petitioner), to object to CDPHE's March 1, 2010, title V permit issued to Public Service Company of Colorado dba Xcel Energy (Xcel)—Valmont Power Station.

Pursuant to section 505(b)(2) of the Clean Air Act (Act or CAA), Petitioners may seek judicial review of those portions of the petition that EPA denied in the United States Court of Appeals for the appropriate circuit. Any petition for review shall be filed within 60 days from the date this notice appears in the Federal Register, pursuant to section 307 of the Act.

ADDRESSES: You may review copies of the Final Order, the Petition, and other supporting information at the EPA Region 8 Office, 1595 Wynkoop Street, Denver, Colorado 80202-1129. EPA requests that if at all possible, you contact the individual listed in the FOR FURTHER INFORMATION CONTACT section to view the copies of the Final Order, the Petition, and other supporting information. You may view the hard copies Monday through Friday, 8 a.m. to 4 p.m., excluding Federal holidays. If you wish to examine these documents, you should make an appointment at least 24 hours in advance. Additionally, the Final Order for Public Service Company of Colorado—Valmont Power Station is available electronically at: http://www.epa.gov/region07/air/title5/petitiondb/petitions/xcel_valmont_response2011.pdf.

FOR FURTHER INFORMATION CONTACT: Donald Law, Air Program (8P-AR), EPA Region 8, 1595 Wynkoop Street, Denver, Colorado 80202-1129. Phone: (303) 312-7015. E-mail: law.donald@epa.gov.

SUPPLEMENTARY INFORMATION: The Act affords EPA a 45-day period to review and object to, as appropriate, a title V operating permit proposed by State permitting authorities. Section 505(b)(2) of the Act authorizes any person to petition the EPA Administrator, within 60 days after the expiration of this review period, to object to a title V operating permit if EPA has not done so. Petitions must be based only on objections to the permit that were raised with reasonable specificity during the public comment period provided by the State, unless the petitioner demonstrates that it was impracticable to raise these issues during the comment period or the grounds for the issues arose after this period. EPA received a petition from WildEarth Guardians dated March 18, 2010, requesting that EPA object to the issuance of the title V operating permit to Public Service Company of Colorado for the operation of the Valmont Power Station. The Petition alleges that the Permit does not comply with 40 CFR part 70 in that it fails to assure compliance with: (I) A compliance plan for opacity monitoring requirements; (II) applicable opacity requirements; (III) particulate matter (PM) limits applicable to the coal-fired boiler; (IV) CAA section 112(j) for air toxics; and (V) PSD requirements in regard to carbon dioxide (CO2) emissions.

On September 29, 2011, the Administrator issued an Administrative Order denying the Petition. The Order explains the reasons behind EPA's conclusions.

Dated: October 19, 2011.
James B. Martin,
Regional Administrator, Region 8.

[FR Doc. 2011-27725 Filed 10-25-11; 8:45 am]

BILLING CODE 6560-50-P